DEPARTMENT OF JUSTICE

Civil Rights Division

28 CFR Parts 35 and 36

[CRT Docket No. 2004-DRS01]

RIN 1190-AA46 and 1190-AA44

Nondiscrimination on the Basis of Disability in State and Local Government Services; Nondiscrimination on the Basis of Disability by Public Accommodations and in Commercial Facilities

AGENCY: Department of Justice, Civil Rights Division.

ACTION: Advance notice of proposed rulemaking; extension of comment period.

SUMMARY: On September 30, 2004, the Department of Justice published an Advance Notice of Proposed Rulemaking (ANPRM) in the Federal Register, 69 FR 58768, in order to begin the process of adopting Parts I and III of the revised guidelines implementing the Americans with Disabilities Act of 1990 (ADA) and the Architectural Barriers Act of 1968 (ABA), published by the Architectural and Transportation Barriers Compliance Board (Access Board) on July 23, 2004, at 69 FR 44083. The comment period is scheduled to close on January 28, 2005. The Department of Justice is extending the comment period until May 31, 2005, in order to provide additional time for the public to prepare comments.

DATES: All comments must be received by May 31, 2005.

ADDRESSES: Submit electronic comments and other data to http://www.adaanprm.org or http://www.regulations.gov. See SUPPLEMENTARY INFORMATION—Electronic Submission of Comments and Electronic Access for file formats and other information about electronic filing. Address all written comments concerning the ANPRM to P.O. Box 1032, Merrifield, VA 22116-1032.

FOR FURTHER INFORMATION CONTACT: Anne Beckman or Kate Nicholson, Attorneys, Disability Rights Section, Civil Rights Division, U.S. Department of Justice, at (202) 307-0663 (voice or TTY). This is not a toll-free number. Information may also be obtained from the Department's toll-free ADA Information Line at (800) 514-0301 (voice) or (800) 514-0383 (TTY).

You may obtain copies of this notice in large print, audiotape, or computer disk by calling the ADA Information Line at (800) 514-0301 (voice and (800) 514-0383 (TTY). This notice is also available in an accessible format on the ADA Home Page at http://www.ada.gov.

SUPPLEMENTARY INFORMATION:

Extension of Comment Period

The Department of Justice published an ANPRM in the Federal Register, 69 FR 58768, on September 30, 2004, in order to begin the process of adopting Parts I and III of the revised guidelines implementing the ADA and the ABA, which were published by the Access Board on July 23, 2004, at 69 FR 44083. Following publication of the ANPRM, the Department received requests from a variety of interested parties to extend the deadline for public comment, citing the complexity of the data requests, the need to distribute surveys, the overlap of the comment period with the holiday season, and the need for additional time in order to provide an informed response to the Department's questions. The Department has decided to extend the comment period until May 31, 2005. The Department believes this extension is ample for an “advance” notice of proposed rulemaking, which is merely a prepatory stage in rulemaking process. Interested parties will receive another opportunity to comment when the Department issues a formal notice of proposed rulemaking. The revised guidelines, which are the subject of the ANPRM, will have no legal effect on the public until they are adopted by the Department of Justice in the final stage of the rulemaking process.

Comments on the ANPRM may be provided by May 31, 2005 online at http://www.adaanprm.org, or by mail, at P.O. Box 1032, Merrifield, VA 22116-1032.

R. Alexander Acosta,
Assistant Attorney General, Civil Rights Division.

[FR Doc. 05-1015 Filed 1-18-05; 8:45 am]

BILLING CODE 4410-13-M